COMMITTEE FOR PURCHASE FROM PEOPLE WHO ARE BLIND OR SEVERELY DISABLED

Procurement List; Proposed Additions and Deletions

AGENCY: Committee for Purchase from People Who Are Blind or Severely Disabled.

ACTION: Proposed additions to and deletions from Procurement List.

SUMMARY: The Committee is proposing to add to the Procurement List products and a service to be furnished by nonprofit agencies employing persons who are blind or have other severe disabilities, and to delete products previously furnished by such agencies.

Comments Must be Received on or Before: May 2, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and service to the Government.

2. If approved, the action will result in authorizing small entities to furnish the products and service to the Government.

3. There are no known regulatory alternatives which would accomplish the objectives of the Javits-Wagner-O'Day Act (41 U.S.C. 46-48c) in connection with the products and service proposed for addition to the Procurement List. Comments on this certification are invited. Commenters should identify the statement(s) underlying the certification on which they are providing additional information.

End of Certification

The following products and service are proposed for addition to Procurement List for production by the nonprofit agencies listed:

Products

Product/NSN: Gloves, Disposable

8415-01-392-8448

NPA: Bestwork Industries for the Blind, Inc., Runnemede, New Jersey

Contract Activity: GSA, Southwest Supply Center, Fort Worth, Texas

Product/NSN: Paper Shredder 1200 CC

7520-00-NIB-1696

Product/NSN: Paper Shredder 1200 SC

7520-00-NIB-1695

NPA: L.C. Industries For The Blind, Inc., Durham, North Carolina

Contract Activity: Office Supplies & Paper Products Acquisition Center, New York, New York

Product/NSN: Three Wheel Tape Dispenser

7520-00-634-6724

Product/NSN: Two Wheel Tape Dispenser

7520-00-285-1772

NPA: The Arc of Bergen and Passaic Counties, Inc., Hackensack, New Jersey

Contract Activity: Office Supplies & Paper Products Acquisition Center, New York, New York

Service

Service Type/Location: Custodial Services

Food & Drug Administration, CDER Lab/Office Building White Oak, Maryland

NPA: Alliance, Inc., Baltimore, Maryland

Contract Activity: GSA/PBS National Capitol Region, Washington, DC

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Product/NSN: Sheet, Bed, Disposable

7210-00-498-0512

NPA: East Texas Lighthouse for the Blind, Tyler, Texas

Contract Activity: Defense Supply Center Philadelphia, Philadelphia, Pennsylvania

Product/NSN: Test Kit, Oil Condition

6630-01-096-4792

NPA: Susquehanna Association for the Blind and Visually Impaired, Lancaster, Pennsylvania

Contract Activity: Defense Supply Center Philadelphia, Philadelphia, Pennsylvania

Product/NSN: Tray, Repositional Note Pad

7520-01-207-4351

NPA: L.C. Industries For The Blind, Inc., Durham, North Carolina

Contract Activity: Office Supplies & Paper Products Acquisition Center, New York, New York

Patrick Rowe,
Deputy Executive Director.

[FR Doc. 04-7507 Filed 4-1-04; 8:45 am]

BILLING CODE 6353-01-P